DEPARTMENT OF THE INTERIOR

National Park Service

[NPS-WASO-NAGPRA-NPS0034103; PPWOCRADN0-PCU00RP14.R50000]

Notice of Intent To Repatriate Cultural Items: University of Denver Museum of Anthropology, Denver, CO

AGENCY: National Park Service, Interior.

ACTION: Notice.

SUMMARY: The University of Denver Museum of Anthropology, in consultation with the appropriate Indian Tribes or Native Hawaiian organizations, has determined that the cultural items listed in this notice meet the definition of unassociated funerary objects and sacred objects. Lineal descendants or representatives of any Indian Tribe or Native Hawaiian organization not identified in this notice that wish to claim these cultural items should submit a written request to the University of Denver Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Denver Museum of Anthropology at the address in this notice by July 27, 2022.

FOR FURTHER INFORMATION CONTACT: Anne Amati, University of Denver Museum of Anthropology, 2000 E Asbury Avenue, Sturm Hall 146, Denver, CO 80208, telephone (303) 871-2687, email anne.amati@du.edu.

SUPPLEMENTARY INFORMATION: Notice is here given in accordance with the Native American Graves Protection and Repatriation Act (NAGPRA), 25 U.S.C. 3005, of the intent to repatriate cultural items under the control of the University of Denver Museum of Anthropology, Denver, CO, that meet the definition of unassociated funerary objects and sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 37 cultural items were removed from unknown sites in unknown counties in WY. At an unknown date, the cultural items came into the possession of Theodore Sowers. Mr. Sowers was a graduate of the University of Denver and, in 1995, his daughters donated the cultural items to the University of Denver. The 37 unassociated funerary objects are one arrow shaft (DU ID# 1995.1.25), nine awls (DU ID#s 1995.1.16, 1995.1.34-37 and 1995.1.39-42), two dress adornments (DU ID#s 1995.1.23-24), two earrings (DU ID#s 1995.1.21-22), two gorgets (DU ID#s 1995.1.38 and 1995.1.49), one worked horn (DU ID# 1995.1.17), one finger knife (DU ID# 1995.1.26), one mirror (DU ID#1995.1.51), three projectile points (DU ID#s 1995.1.27-28 and 1995.1.33), three scrapers (DU ID#s 1995.1.30-32), one Sun Dance brooch (DU ID# 1995.1.50), six tools (DU ID#s 1995.1.19-20, 1995.1.29, 1995.1.43, 1995.1.45 and 1995.1.52), one hair decoration (DU ID# 1995.1.46), three whistles (DU ID#s 1995.1.44, 1995.1.47-48), and one piece of worked wood (DU ID# 1995.1.18).

At an unknown date, one cultural item was removed from an unknown site in WY. At an unknown date, the cultural item came into the possession of Theodore Sowers. Mr. Sowers was a graduate of the University of Denver and, in 1995, his daughters donated the cultural item to the University of Denver. The one sacred object is a steatite pipe bowl (DU ID# 4155).

The Eastern Shoshone Tribe of the Wind River Reservation, Wyoming (previously listed as Shoshone Tribe of the Wind River Reservation, Wyoming), have been living on the Wind River Mountain range and its environs for some 12,000 years. Museum records indicate that the 37 cultural items were removed from a burial. During consultation in March of 2019, Eastern Shoshone Tribal Historic Preservation Office (THPO) staff and a Cultural/Spiritual Representative demonstrated that the one cultural item is a sacred object. They also demonstrated that all these items are culturally affiliated with the Eastern Shoshone Tribe of the Wind River Reservation, Wyoming (previously listed as Shoshone Tribe of the Wind River Reservation, Wyoming).

Determinations Made by the University of Denver Museum of Anthropology

Officials of the University of Denver Museum of Anthropology have determined that:

• Pursuant to 25 U.S.C. 3001(3)(B), the 37 cultural items described above are reasonably believed to have been placed with or near individual human remains at the time of death or later as part of the death rite or ceremony and are believed, by a preponderance of the evidence, to have been removed from a specific burial site of a Native American individual.

• Pursuant to 25 U.S.C. 3001(3)(C), the one cultural item described above is a specific ceremonial objects needed by traditional Native American religious leaders for the practice of traditional Native American religions by their present-day adherents.

• Pursuant to 25 U.S.C. 3001(2), there is a relationship of shared group identity that can be reasonably traced between the unassociated funerary objects and sacred object and the Eastern Shoshone Tribe of the Wind River Reservation, Wyoming (previously listed as Shoshone Tribe of the Wind River Reservation, Wyoming).

Additional Requestors and Disposition

Lineal descendants or representatives of any Indian Tribe or Native Hawaiian organization not identified in this notice that wish to claim these cultural items should submit a written request with information in support of the claim to Anne Amati, University of Denver Museum of Anthropology, 2000 E Asbury Avenue, Sturm 146, Denver, CO 80208, telephone (303) 871-2687, email anne.amati@du.edu, by July 27, 2022. After that date, if no additional claimants have come forward, transfer of control of the unassociated funerary objects and sacred object to the Eastern Shoshone Tribe of the Wind River Reservation, Wyoming (previously listed as Shoshone Tribe of the Wind River Reservation, Wyoming) may proceed.

The University of Denver Museum of Anthropology is responsible for notifying the Eastern Shoshone Tribe of the Wind River Reservation, Wyoming (previously listed as Shoshone Tribe of the Wind River Reservation, Wyoming) that this notice has been published.

Dated: June 10, 2022.
Melanie O'Brien,
Manager, National NAGPRA Program.

[FR Doc. 2022-13620 Filed 6-24-22; 8:45 am]

BILLING CODE 4312-52-P